NATIONAL CREDIT UNION ADMINISTRATION

Sunshine Act; Notice of Agency Meeting

Time and Date: 10 a.m., Thursday, September 25, 2008.

Place: Board Room, 7th Floor, Room 7047, 1775 Duke Street, Alexandria, VA 22314-3428.

Status: Open.

Matters to be Considered: 1. Proposed Rule—Part 742 of NCUA's Rules and Regulations, Regulatory Flexibility Program.

2. Final Rule—Part 740 of NCUA's Rules and Regulations, The Official Advertising Statement.

3. Final Rule—Part 792 of NCUA Rules and Regulations, Freedom of Information Act and Privacy Act.

Recess: 11 a.m.

Time and Date: 11:15 a.m., Thursday, September 25, 2008.

Place: Board Room, 7th Floor, Room 7047, 1775 Duke Street, Alexandria, VA 22314-3428.

Status: Closed.

Matters to be Considered: 1. One (1) Administrative Action under Section 206 of the Federal Credit Union Act. Closed pursuant to Exemptions (8), and (9)(A)(ii) and (9)(B).

FOR FURTHER INFORMATION CONTACT: Mary Rupp, Secretary of the Board, Telephone: 703-518-6304.

Mary Rupp,
Secretary of the Board.

[FR Doc. E8-22349 Filed 9-19-08; 11:15 am]

BILLING CODE 7535-01-P